DEPARTMENT OF HEALTH AND HUMAN SERVICES

Administration for Children and Families

Proposed Information Collection Activity; Comment Request

Title: Public Education Study on Public Knowledge of Abstinence and Abstinence Education.

OMB No.: New Collection.

Description: In support of the goal to prevent unwed childbearing, pregnancy, and sexually transmitted diseases, Congress has recently authorized funding increases to support abstinence education.

To learn more about the public's views, the Administration for Children and Families (ACF) will conduct a public opinion survey of a nationally representative sample of adolescents (age 12 to 18) and their parents to examine current attitudes on abstinence and knowledge of abstinence education. The survey data will be used to inform current and future public education campaigns. In addition, the information gathered will assist ACF with grant administration and technical assistance activities. The survey will ask parents (one parent per adolescent) and adolescents about their views and attitudes about abstinence until marriage, awareness of abstinence education, and views and attitudes about abstinence education. Each parent and adolescent interview will take approximately 20 minutes to complete.

Respondents: A nationally representative sample of adolescents will be selected through a random-digit-dial sample of households with landline telephones.

Annual Burden Estimates
Instrument | Number of respondents | Number of responses per respondent | Average burden hours per response | Total burden hours
Telephone interview | ¹ 2,000 | 1 | 0.33 | 660
¹ 1,000 adolescent/parent pairs.

Total annual burden estimates: 660.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 8, 2006.
Robert Sargis,
Reports Clearance Officer.

[FR Doc. 06-9224 Filed 11-15-06; 8:45 am]

BILLING CODE 4184-01-M